DEPARTMENT OF AGRICULTURE

Agricultural Marketing Service

[Document Number AMS-NOP-11-0081; NOP-11-15]

Notice of Meeting of the National Organic Standards Board

AGENCY: Agricultural Marketing Service, USDA.

ACTION: Notice of meeting.

SUMMARY: In accordance with the Federal Advisory Committee Act, as amended, the Agricultural Marketing Service (AMS) is announcing a forthcoming meeting of the National Organic Standards Board (NOSB).

DATES: The meeting dates are Tuesday, November 29, 2011, 8 a.m. to 5:30 p.m.; Wednesday, November 30, 2011, 8 a.m. to 5:30 p.m.; Thursday, December 1, 2011, 8 a.m. to 5 p.m.; and Friday, December 2, 2011, 8 a.m. to 5:30 p.m. Pre-registration requests for public comments at the meeting are due by midnight Eastern Time on Sunday, November 13, 2011. Written comments received after November 13, 2011 may not be reviewed by the NOSB before the meeting.

ADDRESSES: The meeting will take place at the Hilton Savannah Desoto Hotel, 15 East Liberty Street, Savannah, GA 31401.

• View NOSB meeting agenda and draft recommendations at http://www.ams.usda.gov/nop. Requests for copies of these materials may be sent to Ms. Lorraine Coke, National Organic Standards Board, USDA-AMS-NOP, 1400 Independence Ave., SW., Room 2646-So., Mail Stop 0268, Washington, DC 20250-0268; Phone: (202) 720-3252; nosb@ams.usda.gov.

• Submit written comments at http://www.ams.usda.gov/nosbsavannah. Comments received after November 13, 2011, may not be reviewed by the NOSB before the meeting. Written comments may also be submitted via mail to Ms. Lorraine Coke, National Organic Standards Board, USDA-AMS-NOP, 1400 Independence Ave., SW., Room 2646-S, Mail Stop 0268, Washington, DC 20250-0268. It is our intention to have all comments—whether they are submitted by mail or the internet—available for viewing at http://www.ams.usda.gov/nosbsavannah.

• Pre-register for a public comment slot at the meeting at http://www.ams.usda.gov/nosbsavannahslots or by calling (202) 720-3252.

FOR FURTHER INFORMATION CONTACT: Ms. Lorraine Coke, National Organic Standards Board, USDA-AMS-NOP, 1400 Independence Ave., SW., Room 2646-So., Mail Stop 0268, Washington, DC 20250-0268; Phone: (202) 720-3252; nosb@ams.usda.gov.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six subcommittees working on various aspects of the organic program. The committees are: Compliance, Accreditation, and Certification; Crops; Handling; Livestock; Materials; and Policy Development.

In August of 1994, the NOSB provided its initial recommendations for the NOP to the Secretary of Agriculture. Since that time, the NOSB has submitted 269 addenda to its recommendations and reviewed more than 365 substances for inclusion on the National List of Allowed and Prohibited Substances. The Department of Agriculture (USDA) published its final National Organic Program regulation in the Federal Register on December 21, 2000, (65 FR 80548). The rule became effective April 21, 2001.

In addition, the OFPA authorizes the National List of Allowed and Prohibited Substances and provides that no allowed or prohibited substance would remain on the National List for a period exceeding five years unless the exemption or prohibition is reviewed and recommended for renewal by the NOSB and adopted by the Secretary of Agriculture. This expiration is commonly referred to as sunset of the National List. The National List appears at 7 CFR part 205, subpart G.

The principal purpose of NOSB meetings is to provide an opportunity for the organic community to weigh in on proposed NOSB recommendations and discussion items. These meetings also allow the NOSB to receive updates from the USDA/NOP on issues pertaining to organic agriculture.

Summary of April 2011 Meeting

At the spring 2011 meeting in Seattle, Washington the NOSB voted on the final 28 materials listings that were scheduled to sunset in 2012 (see Table 1). Of the 28 materials, 21 were relisted, 5 were relisted with amended annotations, and 2 were removed from the National List.

Table 1—Sunset 2012 Material Listings Voted to be Relisted at April 2011 Meeting
Substance | NOSB Recommendation
Synthetic substances allowed for use in organic crop production
Calcium hypochlorite Chlorine dioxide Sodium hypochlorite | Relist with amended annotation “For pre-harvest use, residual chlorine levels in the water in direct crop contact or as water from cleaning irrigation systems applied to soil must not exceed the maximum residual disinfectant limit under the Safe Drinking Water Act. For disinfecting or sanitizing equipment or tools or in edible sprout production, chlorine products may be used up to maximum labeled rates.”
Copper sulfate | Relist.
Copper hydroxide | Relist.
Copper oxide | Relist.
Copper oxychloride | Relist.
Ethanol | Relist.
Isopropanol | Relist.
Newspapers or other | Relist.
Plastic mulch covers | Relist.
Newspapers or other | Relist.
Pheromones | Relist.
Sulfur dioxide | Remove from National List
Vitamin D3 | Relist.
Streptomycin | Relist with amended annotation “For fire blight control in apples and pears, only until October 21, 2014.”
Lignin sulfonate | Relist.
Magnesium sulfate | Relist.
Ethylene gas | Relist.
Sodium silicate | Relist.
Lignin sulfonate | Relist.
Magnesium sulfate | Relist.
Ethylene gas | Relist.
Sodium silicate | Relist.
Lignin sulfonate | Relist.
Nonsynthetic substances prohibited for use in organic crop production
Sodium nitrate | Relist and remove annotation (complete prohibition).
Nonsynthetic substances allowed as ingredients in or on processed products labeled as “organic” or “made with organic”
Enzymes | Relist.
Potassium iodide | Relist.
Synthetic substances allowed as ingredients in or on processed products labeled as “organic” or “made with organic”
Nutrient vitamins | Relist.
Nutrient minerals | Relist.
Potassium iodide | Relist.
Tocopherols | Relist.

The NOSB voted against relisting sulfur dioxide for use in organic crop production and potassium iodide for use as an ingredient in or on processed products labeled as “organic” or “made with organic.” In addition, the NOSB voted to remove the annotation for sodium nitrate on § 205.602 and establish a complete prohibition by the 2012 Sunset date.

Several petitioned materials were also reviewed at the meeting. The NOSB recommended against listing Nickel as a micronutrient; Calcium acid pyrophosphate as a leavening agent; and Sodium acid pyrophosphate as a sequestrant on cooked and uncooked produce. The NOSB recommended to add attapulgite—used to clarify plant and animal oils—to the National List as a non-synthetic material and recommended extending the expiration date for Tetracycline (for fire blight control in apples and pears) until October 21, 2014.

In additional to their review of materials, the NOSB also passed recommendations that would: Amend the definition of “chemical change,” and update three sections of their Policy and Procedures Manual: Sections III and IV, to harmonize the Vice Chair and Policy Development Committee job descriptions; and Section V, procedures for completing committee recommendations allowing the presenting committee to convene and vote to withdraw its recommendation prior to the Board's vote on the status of the recommendation.

Fall 2011 Meeting Agenda Items

The Crops Committee will present recommendations on material listings for copper sulfate, ozone, peracetic acid, and calcium chloride, which are scheduled to sunset in 2013 (see Table 2). The Crops Committee will also present recommendations to the board on four petitioned materials: Ammonium nonanoate, ferric phosphate (to remove), indole-3-butyric acid, and propane (odorized). The Crops Committee will also provide an update on fire blight in tree fruit and a discussion document on EPA List 3 inerts.

Table 2—Crops Substances Scheduled to Sunset in 2013 and Be Addressed at Fall Meeting
Section | Material | Expiration date
Synthetic substances allowed for use in organic crop production | Copper sulfate Ozone Peracetic acid | November 3, 2013. November 3, 2013. November 3, 2013.
Nonsynthetic substances prohibited for use in organic crop production | Calcium chloride | November 3, 2013.

The Livestock Committee will present recommendations on animal welfare; stocking rates, animal handling, transit, and slaughter; and species-specific scorecards. They will also address animal husbandry.

The Handling Committee will present recommendations on three material listings scheduled to sunset in 2013 (see Table 3). The Handling Committee will also present recommendations to the board on eight petitioned materials: Annatto extract, arachidonic acid (ARA) single-cell oil, beta-carotene, choline, docosahexaenoic acid (DHA) algal oil, potassium hydroxide, sulfur dioxide, and silicon dioxide. Other Handling Committee recommendations include a recommendation amending the chlorine materials annotation. They will also provide an update on nutrient vitamins and minerals.

Table 3—Handling Substances Scheduled to Sunset in 2013 and Be Addressed at Fall Meeting
Section | Material | Expiration date
Nonsynthetic substances allowed as ingredients in or on processed products labeled as “organic” or “made with organic | Animal enzymes Tartaric acid (made from grape wine) | November 3, 2013. November 3, 2013.
Synthetic substances allowed as ingredients in or on processed products labeled as “organic” or “made with organic | Tartaric acid (made from malic acid) | November 3, 2013.

The Materials Committee will present an aquaculture materials review update and a research priorities framework discussion document.

The Compliance, Accreditation, and Certification Committee will present recommendations on the evaluation of material review organizations, unannounced inspections, and inspector qualifications.

The Policy Development Committee will present recommendations on four sections of the NOSB Policy and Procedures Manual: administrative team, committee transparency, conflict of interest, and NOSB member and leadership transition. The Policy Development Committee will also present a discussion document on public comment procedures.

The Meeting is Open to the Public. The NOSB has scheduled time for public input for Tuesday, November 29, 2011, from 10:15 a.m. to 5:30 p.m. and Thursday, December 1, 2011 from 8 a.m. to 5 p.m. The NOSB will accommodate as many individuals and organizations as possible during these sessions. Individuals and organizations wishing to make oral presentations at the meeting should request one short time slot by visiting http://www.ams.usda.gov/nosbsavannahslots or by calling (202) 720-3252. All persons making oral presentations are requested to also provide their comments in writing. Written submissions may contain information other than that presented at the oral presentation. Anyone may submit written comments at the meeting. Persons submitting written comments at the meeting are asked to provide sixteen copies.

Interested persons may visit http://www.ams.usda.gov to view NOSB recommendations, meeting agenda, and submit and/or view public comments.

Dated: September 29, 2011.
David Shipman,
Acting Administrator, Agricultural Marketing Service.

[FR Doc. 2011-25551 Filed 10-6-11; 8:45 am]

BILLING CODE 3410-02-P